SOCIAL SECURITY ADMINISTRATION

Rate for Attorney Fee Assessment Beginning in 2003

AGENCY: Social Security Administration (SSA).

ACTION: Notice.

SUMMARY: The Social Security Administration is announcing that the attorney fee assessment rate under section 206(d) of the Act, 42 U.S.C. 406(d), is 6.3 percent for 2003.

FOR FURTHER INFORMATION CONTACT: John B. Watson, Social Security Administration, Office of the General Counsel, Phone: (410) 965-3137, email John.Watson@ssa.gov.

SUPPLEMENTARY INFORMATION: Section 406 of Pub. L. 106-170, the Ticket to Work and Work Incentives Improvement Act of 1999, established an assessment for the services required to determine and certify payments to attorneys from the benefits due claimants under Title II of the Act. This provision is codified in section 206 of the Act (42 U.S.C. 406). The legislation set the assessment for calendar year 2000 at 6.3 percent of the amount that would be required to be certified for direct payment to the attorney under section 206(a)(4) or 206(b)(1) before the application of the assessment. For subsequent years, the legislation requires the Commissioner of Social Security to determine the percentage rate necessary to achieve full recovery of the costs of determining and certifying fees to attorneys, but not in excess of 6.3 percent. The Commissioner of Social Security has determined, based on the best available data, that the current rate of 6.3 percent will continue for 2003. We will continue to review our costs on a yearly basis.

Dated: January 3, 2003.
Dale W. Sopper,
Acting Deputy Commissioner for Finance Assessment and Management.

[FR Doc. 03-538 Filed 1-10-03; 8:45 am]

BILLING CODE 4191-02-P